DEPARTMENT OF ENERGY

Federal Energy Regulatory Commission

[Project No. 12698-000]

Public Utility District No. 1 of Snohomish County, WA; Notice Granting Late Intervention

November 16, 2006.

On July 3, 2006, the Commission issued a notice of the application for preliminary permit filed by Public Utility District No. 1 of Snohomish County, Washington, for the Guemes Channel Tidal Energy Project No. 12698, to be located in Guemes Channel in San Juan County, Washington. The notice established September 1, 2006 as the deadline for filing motions to intervene.

On September 22, 2006, the City of Anacortes, Washington, filed a late motion to intervene in the proceeding. Granting the motion to intervene will not unduly delay or disrupt the proceeding, or prejudice other parties to it. Therefore, pursuant to Rule 214,¹ the motion to intervene filed by the City of Anacortes, Washington, is granted, subject to the Commission's rules and regulations.

¹ 18 CFR 385.214 (2006).

Magalie R. Salas,
Secretary.

[FR Doc. E6-19926 Filed 11-24-06; 8:45 am]

BILLING CODE 6717-01-P